DEPARTMENT OF THE INTERIOR

National Park Service

National Preservation Technology and Training Board—National Center for Preservation Technology and Training: Meeting

AGENCY: National Park Service, U.S. Department of the Interior.

ACTION: Notice.

SUMMARY: Notice is hereby given in accordance with the Federal Advisory Committee Act (FACA) (5 U.S.C. Appendix (1988)), that the Preservation Technology and Training Board (Board) of the National Center for Preservation Technology and Training, National Park Service will meet on Monday, October 31, 2005, in Santa Fe, New Mexico.

The Board was established by Congress to provide leadership, policy advice, and professional oversight to the National Park Service's National Center for Preservation Technology and Training (National Center) in compliance with section 404 of the National Historic Preservation Act of 1966, as amended, (16 U.S.C. 470x-2(e)).

The Board will meet in the De Vargas Room of the Hotel St. Francis at 210 Don Gaspar Avenue, Santa Fe, New Mexico 87501—telephone (505) 983-5700. The meeting will begin at 9 a.m. and end no later than 5 p.m.

The Board's meeting agenda will include: National Center response to hurricanes Katrina and Rita; review and comment on National Center operational priorities for FY 2006; status of FY 2006 National Center budget and initiatives; development and launch of the Lee H. Nelson Prize in Historic Preservation Technology; proposed Wingspread Conference on Sustainability in Preservation; and Board workgroup reports.

The Board meeting is open to the public. Facilities and space for accommodating members of the public are limited, however, and persons will be accommodated on a first come, first served basis. Any member of the public may file a written statement concerning any of the matters to be discussed by the Board.

Persons wishing more information concerning this meeting, or who wish to submit written statements, may contact: Mr. John A. Burns, Acting Assistant Associate Director, Heritage Preservation Assistance Programs, National Park Service, U.S. Department of the Interior, 1849 C Street, NW., Room 2250 MIB, Washington, DC 20240—telephone (202) 354-2118. Increased security in the Washington, DC area may cause delays in the delivery of the U.S. Mail or commercial delivery to government office buildings. In addition to U.S. Mail or commercial delivery, written comments may be sent by fax to Mr. Burns at (202) 371-6473.

Minutes of the meeting will be available for public inspection no later than 90 days after the meeting at the office of the Acting Assistant Associate Director, Heritage Preservation Assistance Programs, National Park Service, U.S. Department of the Interior, 1849 C Street, NW., Room 2250 MIB, Washington, DC 20240—telephone (202) 354-2118.

Dated: October 3, 2005.
John A. Burns,
Acting Assistant Associate Director, Heritage Preservation Assistance Programs, National Park Service.

[FR Doc. 05-21221 Filed 10-24-05; 8:45am]

BILLING CODE 4312-52-P